DEPARTMENT OF LABOR

Employment and Training Administration

[TA-W-74,525]

Emerson Transportation Division, a Division of Emerson Electric, Including Workers Located Throughout the United States; Bridgeton, MO; Amended Certification Regarding Eligibility To Apply for Worker Adjustment Assistance

In accordance with Section 223 of the Trade Act of 1974, as amended (“Act”), 19 U.S.C. 2273, the Department of Labor issued a Certification of Eligibility to Apply for Worker Adjustment Assistance on November 19, 2010, applicable to workers of Emerson Transportation Division, a division of Emerson Electric, Bridgeton, Missouri. The notice was published in the Federal Register on December 16, 2010 (75 FR 75701).

At the request of a State of Arkansas agent, the Department reviewed the certification for workers of Emerson Transportation Division. The workers supply distribution services.

Information shows that some workers separated from employment at Emerson Transportation Division lived throughout the United States, including Arkansas, but report to the Bridgeton, Missouri facility due to the nature of the services supplied (transportation services).

Accordingly, the Department is amending this certification to properly reflect this matter.

The intent of the Department's certification is to include all workers of Emerson Transportation Division who are adversely affected secondary workers.

The amended notice applicable to TA-W-74,525 is hereby issued as follows:

“All workers of Emerson Transportation Division, a division of Emerson Electric, including workers located throughout the United States, Bridgeton, Missouri, who supply transportation services and who became totally or partially separated from employment on or after August 10, 2009 through November 19, 2012, and all workers in the group threatened with total or partial separation from employment on date of certification through two years from the date of certification, are eligible to apply for adjustment assistance under Chapter 2 of Title II of the Trade Act of 1974, as amended.”

Signed at Washington, DC, January 13, 2011.
Del Min Any Chen,
Certifying Officer, Office of Trade Adjustment Assistance.

[FR Doc. 2011-1622 Filed 1-25-11; 8:45 am]

BILLING CODE 4510-FN-P